DEPARTMENT OF AGRICULTURE

Animal and Plant Health Inspection Service

[Docket No. APHIS-2007-0132]

Notice of Request for Revision and Extension of Approval of an Information Collection; Domestic Quarantine Regulations

AGENCY: Animal and Plant Health Inspection Service, USDA.

ACTION: Revision and extension of approval of an information collection; comment request.

SUMMARY: In accordance with the Paperwork Reduction Act of 1995, this notice announces the Animal and Plant Health Inspection Service's intention to request a revision and extension of approval of an information collection associated with regulations to prevent the interstate spread of plant diseases within the United States.

DATES: We will consider all comments that we receive on or before April 7, 2008.

ADDRESSES: You may submit comments by either of the following methods:

Federal eRulemaking Portal: Go to http://www.regulations.gov/fdmspublic/component/main?main=DocketDetail&d=APHIS-2007-0132 to submit or view comments and to view supporting and related materials available electronically.

Postal Mail/Commercial Delivery: Please send two copies of your comment to Docket No. APHIS-2007-0132, Regulatory Analysis and Development, PPD, APHIS, Station 3A-03.8, 4700 River Road Unit 118, Riverdale, MD 20737-1238. Please state that your comment refers to Docket No. APHIS-2007-0132.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information regarding the domestic quarantine regulations, contact Dr. Osama El Lissy, Director, Emergency Management, Emergency and Domestic Programs, PPQ, APHIS, 4700 River Road Unit 137, Riverdale, MD 20737; (301) 734-8247. For copies of more detailed information on the information collection, contact Mrs. Celeste Sickles, APHIS' Information Collection Coordinator, at (301) 734-7477.

SUPPLEMENTARY INFORMATION: Title: Domestic Quarantine Regulations.

OMB Number: 0579-0088.

Type of Request: Revision and extension of approval of an information collection.

Abstract: As authorized by the Plant Protection Act (7 U.S.C. 7701 et seq.) (PPA), the Secretary of Agriculture may prohibit or restrict the importation, entry, exportation, or movement in interstate commerce of any plant, plant product, biological control organism, noxious weed, means of conveyance, or other article if the Secretary determines that the prohibition or restriction is necessary to prevent a plant pest or noxious weed from being introduced into or disseminated within the United States. This authority has been delegated to the Animal and Plant Health Inspection Service (APHIS), which administers regulations to implement the PPA. Regulations governing the interstate movement of plants, plant products, and other articles are contained in 7 CFR part 301, “Domestic Quarantine Notices.”

These regulations prohibit or restrict the interstate movement of certain articles from infested areas to noninfested areas to prevent the spread of plant pests such as the Asian longhorned beetle, emerald ash borer, imported fire ant, Mexican fruit fly, and the West Indian fruit fly. For example, if an area of the United States has been placed under quarantine because of a fruit fly infestation, then certain plants and plant products that may present a risk of spreading the fruit fly may be moved interstate from the infested area only under certain conditions (e.g., after treatment or inspection). In this way, we prevent the fruit flies from being spread to noninfested areas of the United States via the movement of the plants and plant products.

Administering these regulations requires APHIS to collect information from a variety of individuals who are involved in growing, packing, handling, and transporting plants and plant products. The information we collect serves as the supporting documentation required for the issuance of forms and documents that authorize the movement of regulated plants and plant products and is vital to help prevent the spread of injurious plant pests within the United States.

Collecting this information requires us to use a number of forms and documents, including certificates, limited permits, transit permits, and outdoor household article documents.

We are asking the Office of Management and Budget (OMB) to approve our use of these information collection activities for 3 years.

This notice includes a description of the information collection requirements currently approved by OMB under numbers 0579-0088 (Domestic Quarantine Regulations) and 0579-0238 (Mexican Fruit Fly; Interstate Movement of Regulated Articles). After OMB approves and combines the burden for both collections under one collection (number 0579-0088), the Department will retire number 0579-0238.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.0884403 hours per response.

Respondents: State plant regulatory officials, State cooperators, and individuals involved in growing, packing, handling, and transporting plants and plant products.

Estimated annual number of respondents: 195,085.

Estimated annual number of responses per respondent: 6.15183.

Estimated annual number of responses: 1,203,636.

Estimated total annual burden on respondents: 106,450 hours. (Due to averaging, the total annual burden hours may not equal the product of the annual number of responses multiplied by the reporting burden per response.)

All responses to this notice will be summarized and included in the request for OMB approval. All comments will also become a matter of public record.

Done in Washington, DC, this 31st day of January 2008.
Kevin Shea,
Acting Administrator, Animal and Plant Health Inspection Service.

[FR Doc. E8-2260 Filed 2-6-08; 8:45 am]

BILLING CODE 3410-34-P